DEPARTMENT OF HOMELAND SECURITY

Coast Guard

DEPARTMENT OF TRANSPORTATION

Maritime Administration

[USCG-2004-18474]

Pearl Crossing LNG Terminal LLC Liquefied Natural Gas Deepwater Port License Application; Draft Environmental Impact Statement

AGENCY: Coast Guard, DHS; Maritime Administration, DOT.

ACTION: Notice of availability; notice of public meeting; request for comments.

SUMMARY: The U.S. Coast Guard and the Maritime Administration (MARAD) announce the availability of the draft environmental impact statement (DEIS) on the Pearl Crossing LLC Deepwater Port License Application and Pearl Crossing Pipeline LLC Application for a Certificate of Public Convenience and Necessity. The application describes a project that would be located in the Gulf of Mexico, Outer Continental Shelf West Cameron Block 220, approximately 41 miles south of Cameron, Louisiana. The Coast Guard and the Maritime Administration, as well as the cooperating agencies (i.e., Federal Energy Regulatory Commission and U.S. Army Corps of Engineers) request public comment on the DEIS.

DATES: The DEIS will be available on April 22, 2005. Three public meetings will be held from 6 p.m. to 8 p.m. and each will be preceded by an informational open house from 4 p.m. to 5:30 p.m. The first meeting will be held in Sulphur, Louisiana on Tuesday, May 3, 2005. The second meeting will be held in Johnsons Bayou, Louisiana on Wednesday, May 4, 2005. The third meeting will be held in Portland, Texas on Thursday, May 5, 2005. The public meetings may end later than the stated time, depending on the number of persons wishing to speak. Material submitted in response to the request for comments must reach the Docket Management Facility on or before June 7, 2005.

ADDRESSES: The public meeting and informational open house in Sulphur, Louisiana, will be held at the Holiday Inn Express, 102 Mallard Street, phone: 337-625-2500.

The public meeting and informational open house in Johnsons Bayou, Louisiana, will be held at the Johnsons Bayou Community Center, 5556 Gulf Beach Highway, phone: 337-569-2815.

The public meeting and informational open house in Portland, Texas, will be held at the City of Portland Recreation Department, 2000 Billy G. Webb Drive, phone: 361-777-3301.

Address docket submissions for USCG-2004-18474 to: Docket Management Facility, U.S. Department of Transportation, 400 Seventh Street, SW., Washington, DC 20590-0001.

The Docket Management Facility accepts hand-delivered submissions, and makes docket contents available for public inspection and copying, at this address, in room PL-401, between 9 a.m. and 5 p.m., Monday through Friday, except Federal holidays. The Facility's telephone is 202-366-9329, its fax is 202-493-2251, and its Web site for electronic submissions or for electronic access to docket contents is http://dms.dot.gov.

FOR FURTHER INFORMATION CONTACT: If you have questions on this notice, call Lieutenant Ken Kusano, U.S. Coast Guard at 202-267-1184, or e-mail at KKusano@comdt.uscg.mil. If you have questions on viewing or submitting material to the docket, call Andrea Jenkins, Program Manager, Docket Operations, telephone 202-366-0271.

SUPPLEMENTARY INFORMATION:

Public Meeting and Open House

We invite you to learn about the proposed deepwater port at the informational open house, and to comment at the public meeting on the proposed action and the evaluation contained in the DEIS.

Please notify the Coast Guard (see FOR FURTHER INFORMATION CONTACT) if you wish to speak at the public meeting. In order to allow everyone a chance to speak, we may limit speaker time, or extend the meeting hours, or both. You must identify yourself, and any organization you represent, by name. Your remarks will be recorded or transcribed for inclusion in the public docket.

You may submit written material at the public meeting, either in place of or in addition to speaking. Written material must include your name and address, and will be included in the public docket.

Public docket materials will be made available to the public on the Docket Management Facility's Docket Management System (DMS). See “Request for Comments” for information about DMS and your rights under the Privacy Act.

If you plan to attend either the open house or the public meeting, and need special assistance such as sign language interpretation or other reasonable accommodation, please notify the Coast Guard (see FOR FURTHER INFORMATION CONTACT) at least 3 business days in advance. Include your contact information as well as information about your specific needs.

Request for Comments

We request public comments or other relevant information on the DEIS. The public meeting is not the only opportunity you have to comment on the DEIS. In addition to or in place of attending the meeting, you can submit material to the Docket Management Facility during the public comment period (see DATES). The Coast Guard will consider all comments submitted during the public comment period, and then will prepare the final EIS. We will announce the availability of the final EIS and once again give you an opportunity for review and comment. (If you want that notice to be sent to you, please contact the Coast Guard officer identified in FOR FURTHER INFORMATION CONTACT).

Submissions should include:

• Docket number USCG-2004-18474.

• Your name and address.

• Your reasons for making each comment or for bringing information to our attention.

Submit comments or material using only one of the following methods:

• Electronic submission to DMS, http://dms.dot.gov.

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comments or material, all submissions will be posted, without change, to the DMS Web site (http://dms.dot.gov), and will include any personal information you provide. Therefore, submitting this information makes it public. You may wish to read the Privacy Act notice that is available on the DMS Web site, or the Department of Transportation Privacy Act Statement that appeared in the Federal Register on April 11, 2000 (65 FR 19477).

You may view docket submissions at the Docket Management Facility (see ADDRESSES), or electronically on the DMS Web site.

Proposed Action

We published a notice of intent to prepare an EIS for the proposed Pearl Crossing LNG Terminal LLC deepwater port in the Federal Register at 69 FR 50395, Aug, 16, 2004. The proposed action requiring environmental review is the Federal licensing of the proposed deepwater port described in “Summary of the Application” below, which is reprinted from previous Federal Register notices in this docket.

Alternatives to the Proposed Action

The alternatives to licensing are: (1) Licensing with conditions (including conditions designed to mitigate environmental impact), and (2) denying the application, which for purposes of environmental review is the “no-action” alternative. These alternatives are more fully discussed in the DEIS.

Summary of the Application

The application calls for the proposed deepwater port to be located outside State waters in the Gulf of Mexico on the U.S. Outer Continental Shelf, approximately 41 miles (66 kilometers) south of the Louisiana coast in West Cameron Block 220. It would be located in a water depth of approximately 62 feet (19 meters). The proposed Pearl Crossing liquefied natural gas (LNG) deepwater port terminal would serve as the platform for facilities to offload and regasify LNG.

The deepwater port terminal would include two concrete gravity-based LNG storage tanks, LNG carrier berthing provisions, LNG unloading arms, low and high pressure pumps, vaporizers, metering, utility systems, general facilities, and accommodations for up to 60 persons. The total net working capacity of the two integral LNG storage tanks would be 250,000 cubic meters. Pearl Crossing proposes to regasify the LNG using an open rack vaporization system. The terminal would have the ability to accommodate two LNG carriers having capacities ranging from 125,000 to 250,000 cubic meters per vessel. The terminal would be designed to have an average delivery of approximately 2.0 billion cubic feet per day of pipeline quality gas.

The applicant proposes to install two 42-inch-diameter (1.1-meter) offshore pipelines that would originate at the terminal and traverse the Gulf of Mexico in a northwesterly direction to the high water mark near Johnsons Bayou in Cameron Parish, Louisiana. Each offshore pipeline would have a throughput capacity of 1.4 billion standard cubic feet per day (Bscfd) for a total peak capacity of 2.8 Bscfd. Thereafter, the pipelines would continue onshore to multiple gas delivery points in Louisiana and come under FERC jurisdiction as Pearl Crossing Pipeline LLC. Pearl Crossing Pipeline LLC would transport natural gas from the terminal/s two offshore pipelines to a metering and distribution station in Johnsons Bayou for delivery to several interstate and intrastate pipelines near the station. Once onshore, an additional 63.75 miles (102.6 kilometers) of 42-inch-diameter (1.1-meter) pipeline and five additional meter stations would be constructed. The pipeline would terminate near Starks, Louisiana.

The project application includes a fabrication site where the applicant proposes to construct the concrete GBS and its integral components prior to towing the GBS out to the offshore LNG Terminal site. The DEIS evaluates three potential fabrication sites located within San Patricio and Nueces Counties, Texas, near Corpus Christi, Texas.

Application for a Certificate of Public Convenience and Necessity

The onshore portion of this project shoreward of the mean high water line falls under the jurisdiction of the Federal Energy Regulatory Commission (FERC) and must receive a separate authorization from the FERC. As required by their regulations, FERC will also maintain a docket. The FERC docket numbers for this project are CP04-374-000, CP04-375-000 and CP04-376-000. To submit comments to the FERC docket, send an original and two copies of your comments to Secretary, Federal Energy Regulatory Commission 888, First St., NE., Room 1A, Washington, DC 20426. Label one copy of the comments to the Attention of Gas Branch 2. The FERC strongly encourages electronic filing of any comments or interventions or protests to this proceeding. See 18 CFR 385.2001(a)(1)(iii) and the instructions on the FERC's Web site at http://www.ferc.gov under the “e-Filing” link and the link to the Users Guide. Additional information about the project is available from the Commission's Office of External Affairs at 1-866-208 FERC (3372) or on the FERC Internet Web site (http://www.ferc.gov). Using the “eLibrary” link, select “General Search” from the eLibrary menu, enter the selected date range and “Docket Number” (i.e., CP04-374, CP04-375 or CP04-376), and follow the instructions. Searches may also be done using the phrase “Pearl Crossing” in the “Text Search” field. For assistance with access to eLibrary, the helpline can be reached at 1-866-208-3676, TTY 202-502-8659, or at FERCOnlineSupport@ferc.gov. The eLibrary link on the FERC Internet Web site also provides access to the texts of formal documents issued by the Commission, such as orders, notices, and rulemakings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Department of Army Permit

New Orleans District, Army Corps of Engineers is issuing a public notice advising all interested parties of the proposed activity for which a Department of the Army permit is being sought and soliciting comments and information necessary to evaluate the probable impact on the public interest. Comments should be furnished to the U.S. Army Corps of Engineers, New Orleans District, OD-SW, PO Box 60267, New Orleans, LA 70160-0267.

Dated: April 14, 2005.
Howard L. Hime,
Acting Director of Standards, Marine Safety, Security, and Environmental Protection, U.S. Coast Guard.
H. Keith Lesnick,
Senior Transportation, Specialist, Deepwater Ports, Program Manager, U.S. Maritime Administration.

[FR Doc. 05-8006 Filed 4-20-05; 8:45 am]

BILLING CODE 4910-15-P